DEPARTMENT OF LABOR

Employment and Training Administration

[TA-W-63,590]

General Fibers & Fabrics, LaGrange, GA; Notice of Termination of Investigation

Pursuant to section 221 of the Trade Act of 1974, as amended, an investigation was initiated on June 24, 2008 in response to a worker petition filed by a company official on behalf of workers at General Fibers and Fabrics, LaGrange, Georgia.

The petitioner has requested that the petition be withdrawn. Consequently, the investigation has been terminated.

Signed at Washington, DC, this 21st day of July 2008.
Linda G. Poole,
Certifying Officer, Division of Trade Adjustment Assistance.

[FR Doc. E8-17382 Filed 7-29-08; 8:45 am]

BILLING CODE 4510-FN-P